DEPARTMENT OF EDUCATION

Funding Down the State and Partnership Grant Slates From Fiscal Year (FY) 2014; Gaining Early Awareness and Readiness for Undergraduate Programs (GEAR UP)

[Catalog of Financial Domestic Assistance (CFDA) Numbers: 84.334S and 84.334A]

AGENCY: Office of Postsecondary Education, Department of Education.

ACTION: Notice of intent to fund down the State and partnership grant slates from FY 2014.

SUMMARY: The Secretary intends to use grant slates developed in FY 2014 for the GEAR UP Program authorized by Section 404A of the Higher Education Act of 1965, as amended (HEA), to make new grant awards in FY 2016. The Secretary takes this action because a number of high-quality applications remain on the FY 2014 State and partnership grant slates and limited funding is available for new grant awards in FY 2016. We expect to use an estimated $20,000,000 for new awards in FY 2016.

FOR FURTHER INFORMATION CONTACT: Karmon Simms-Coates, U.S. Department of Education, 400 Maryland Avenue SW., Room 5W250, Washington, DC 20202. Telephone: (202) 453-7917 or by email: karmon.simms-coates@ed.gov.

If you use a telecommunications device for the deaf or a text telephone, call the Federal Relay Service, toll free, at 1-800-877-8339.

Individuals with disabilities can obtain this document in an accessible format (e.g., braille, large print, audiotape, or compact disc) on request to the contact person listed under FOR FURTHER INFORMATION CONTACT.

SUPPLEMENTARY INFORMATION:

Background

On June 4, 2014, the Department of Education published two notices in the Federal Register (79 FR 32241 (State Grants) and 79 FR 32249 (Partnership Grants)) inviting applications for FY 2014 State and partnership new awards under the GEAR UP Program.

In response to the notices, we received a number of high-quality applications. Many applications that received high scores by peer reviewers were not selected for funding.

To conserve funding that would have been required for a peer review of new grant applications submitted under this program and instead use those limited funds to support grant activities, the FY 2015 GEAR UP grantees were selected from the State and partnership slates developed during the FY 2014 competition using the priority, selection criteria, and application requirements referenced in the June 2014 notice. A number of high-quality applications from the 2014 competition were not funded in 2014 or 2015. We will select new grantees in FY 2016 from the existing State and partnership slates developed in FY 2014 for the same reasons and in the same manner as we did in FY 2015.

Program Authority: 20 U.S.C. 1070a-21-1070a-28.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: August 26, 2016.
Lynn B. Mahaffie,
Deputy Assistant Secretary for Policy, Planning and Innovation, Delegated the Duties of the Assistant Secretary for Postsecondary Education.

[FR Doc. 2016-21006 Filed 8-30-16; 8:45 am]

BILLING CODE 4000-01-P